FEDERAL ELECTION COMMISSION

Sunshine Act Meetings

FEDERAL REGISTER CITATION NOTICE OF PREVIOUS ANNOUNCEMENT: 82 FR 57265, December 4, 2017.

PREVIOUSLY ANNOUNCED TIME AND DATE OF THE MEETING: Thursday, December 7, 2017 at 10:00 a.m.

CHANGES IN THE MEETING: The Following Matter Was Also Considered: Assessment of Commission Action on Enforcement Matters Awaiting Reason-to-Believe Consideration.

CONTACT PERSON FOR MORE INFORMATION: Judith Ingram, Press Officer, Telephone: (202) 694-1220.

Dayna C. Brown,
Secretary and Clerk of the Commission.

[FR Doc. 2017-26767 Filed 12-7-17; 4:15 pm]

BILLING CODE 6715-01-P